DEPARTMENT OF AGRICULTURE

Rural Housing Service

Rural Business-Cooperative Service

Rural Utilities Service

Farm Service Agency

7 CFR Part 1980

Rural Housing Service

7 CFR Part 3555

RIN 0575-AC18

Single Family Housing Guaranteed Loan Program

AGENCIES: Rural Housing Service, Rural Business-Cooperative Service, Rural Utilities Service, and Farm Service Agency, USDA.

ACTION: Interim final rule; delay of effective date.

SUMMARY: On December 9, 2013, the Rural Housing Service (RHS) published an interim final rule concerning the streamlining and reengineering its Single Family Housing Guaranteed Loan Program. The effective date was listed as September 1, 2014 and is being deferred to December 1, 2014.

DATES: Effective on August 22, 2014, the effective date of the interim final rule published December 9, 2013 (78 FR 73928) is delayed from September 1, 2014 to December 1, 2014.

FOR FURTHER INFORMATION CONTACT: Joaquín Tremols, Director, Single Family Housing Guaranteed Loan Division, USDA, Rural Development, 1400 Independence Avenue SW., Room 2250, Stop 0784, Washington, DC 20250, telephone (202) 720-1465, Email: joaquin.tremols@wdc.usda.gov.

SUPPLEMENTARY INFORMATION: On December 9, 2013, the Rural Housing Service (RHS) published an interim final rule concerning the streamlining and reengineering its Single Family Housing Guaranteed Loan Program. The effective date of September 1, 2014 is being deferred to December 1, 2014 to allow for adequate implementation of affected automated processes.

Dated: August 19, 2014.
Tony Hernandez,
Acting Under Secretary, Rural Development.
Dated: August 18, 2014.
Michael T. Scuse,
Under Secretary, Farm and Foreign Agricultural Services.

[FR Doc. 2014-19958 Filed 8-21-14; 8:45 am]

BILLING CODE 3410-XV-P